DEPARTMENT OF HEALTH AND HUMAN SERVICES

National Institutes of Health

Center for Scientific Review Amended; Notice of Meeting

Notice is hereby given of a change in the meeting of the Center for Scientific Review Special Emphasis Panel, August 03, 2016, 12:30 p.m. to August 03, 2016, 05:00 p.m., National Institutes of Health, 6701 Rockledge Drive, Bethesda, MD, 20892 which was published in the Federal Register on July 14, 2016, 81 FR 45512.

The Meeting will begin at 11:00 a.m. The meeting date and location remain the same. The meeting is closed to the public.

Dated: July 15, 2016.
Anna Snouffer,
Deputy Director, Office of Federal Advisory Committee Policy.

[FR Doc. 2016-17176 Filed 7-20-16; 8:45 am]

BILLING CODE 4140-01-P